DEPARTMENT OF COMMERCE

National Oceanic and Atmospheric Administration

RIN 0648-XS41

Marine Mammals; File No. 87-1851-02

AGENCY: National Marine Fisheries Service (NMFS), National Oceanic and Atmospheric Administration (NOAA), Commerce.

ACTION: Notice; issuance of permit amendment.

SUMMARY: Notice is hereby given that Daniel P. Costa, Ph.D., University of California at Santa Cruz, Long Marine Laboratory, 100 Shaffer Road, Santa Cruz, CA has been issued a major amendment to Permit No. 87-1851-01.

ADDRESSES: The permit amendment and related documents are available for review upon written request or by appointment in the following office(s):

Permits, Conservation and Education Division, Office of Protected Resources, NMFS, 1315 East-West Highway, Room 13705, Silver Spring, MD 20910; phone (301)713-2289; fax (301) 713-0376; and

Southwest Region, NMFS, 501 West Ocean Blvd., Suite 4200, Long Beach, CA 90802-4213; phone (562) 980-4001; fax (562) 980-4018.

FOR FURTHER INFORMATION CONTACT: Amy Sloan or Tammy Adams, Ph.D., (301) 713-2289.

SUPPLEMENTARY INFORMATION: On October 20, 2009, notice was published in the Federal Register (74 FR 53719) that a request for an amendment to Permit No. 87-1851-01 to conduct research on Antarctic pinnipeds had been submitted by the above-named applicant. The requested permit amendment has been issued under the authority of the Marine Mammal Protection Act of 1972, as amended (16 U.S.C. 1361 et seq.), and the regulations governing the taking and importing of marine mammals (50 CFR part 216).

Permit No. 87-1851-02 authorizes the permit holder to expand the geographic range where research is conducted in Antarctica to include the Ross Sea, and to increase the number of Weddell seals (Leptonychotes weddellii) captured, sedated, tagged, and sampled from 10 animals per year to 40 animals per year. Permit No. 87-1851-02 expires on January 31, 2012.

In compliance with the National Environmental Policy Act of 1969 (42 U.S.C. 4321 et seq.), a final determination has been made that the activity proposed is categorically excluded from the requirement to prepare an environmental assessment or environmental impact statement.

Dated: December 28, 2009.
P. Michael Payne,
Chief, Permits, Conservation and Education Division, Office of Protected Resources, National Marine Fisheries Service.

[FR Doc. E9-31191 Filed 12-31-09; 8:45 am]

BILLING CODE 3510-22-S